OFFICE OF PERSONNEL MANAGEMENT

5 CFR Part 576

RIN 3206-AJ76

Voluntary Separation Incentive Payments

AGENCY: Office of Personnel Management.

ACTION: Final rule; correction.

SUMMARY: The Office of Personnel Management (OPM) published in the Federal Register of January 27, 2005, a final rule providing guidance on the requirements for submission of requests for Voluntary Separation Incentive Payments (VSIP) and waiver of repayment of incentive payments upon reemployment with the Federal Government. Inadvertently, an error occurred in referencing the Government Accountability Office. This document corrects the error.

DATES: Effective on August 9, 2005.

FOR FURTHER INFORMATION CONTACT: Sharon K. Ginley at (202) 606-0960, FAX at (202) 606-2329, TDD at (202) 418-3134, or e-mail at sharon.ginley@opm.gov.

SUPPLEMENTARY INFORMATION: OPM published a document in the Federal Register of January 27, 2005 (70 FR 3858), providing guidance on the submission of requests for voluntary separation incentive payment and waiver of repayment of incentive payments upon reemployment with the Federal Government. Inadvertently, an error occurred in referring to the Government Accountability Office (GAO) as the General Accountability Office. This document is being issued to correct the reference.

List of Subjects in 5 CFR Part 576

Government employees, Wages.

Accordingly, 5 CFR part 576 is corrected as follows:

PART 576—VOLUNTARY SEPARATION INCENTIVE PAYMENTS

1. The authority citation for part 576 continues to read as follows:

Authority: Section 3521, 3522, 3523, 3524, and 3535 of title 5, United States Code.

§ 576.203 [Amended]

2. Amend § 576.203 paragraph (a)(1) by removing the word “General” and adding in its place the word “Government.”

Office of Personnel Management.
Linda M. Springer,
Director.

[FR Doc. 05-15748 Filed 8-8-05; 8:45 am]

BILLING CODE 6325-39-M